DEPARTMENT OF THE TREASURY

Submission for OMB Review; Comment Request

February 23, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

dates: Written comments should be received on or before April 2, 2001.

Bureau of Alcohol, Tobacco and Firearms (BATF)

OMB Number: 1512-0518.

Form Number: ATF F 7CR (5310.16).

Type of Review: Extension.

Title: Application for License, Collector of Curios and Relics.

Description: This form is used by the public when applying for a Federal firearms license to collect curios and relics in interstate and foreign commerce. The information requested on the form establishes eligibility for the license.

Respondents: Individuals or households.

Estimated Number of Respondents: 6,000.

Estimated Burden Hours Per Respondent: 15 minutes.

Frequency of Response: On occasion.

Estimated Total Reporting Burden: 1,500 hours.

OMB Number: 1512-0559.

Form Number: None.

Type of Review: Extension.

Title: Identification of Explosive Materials.

Description: This information is necessary to ensure that explosives can be effectively traced. The regulations at 27 CFR 55.109 implement title XI of the Organized Crime Control Act of 1970. The respondents are persons and companies engaged in the business of manufacturing explosives.

Respondents: Business or other for-profit.

Estimated Number of Recordkeepers: 1,563.

Estimated Burden Hours Per Recordkeeper: None.

Frequency of Response: Other (the day following manufacturer of explosive materials).

Estimated Total Recordkeeping Burden: 1 hour.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Lois K. Holland,
Departmental Reports, Management Officer.

[FR Doc. 01-5039 Filed 3-1-01; 8:45 am]

BILLING CODE 4810-31-M